DEPARTMENT OF THE INTERIOR

Geological Survey

[GX15EE000101000]

Agency Information Collection Activities: Request for Comments: National Spatial Data Infrastructure Cooperative Agreements Program (NSDI CAP)

AGENCY: U.S. Geological Survey (USGS), Interior.

ACTION: Notice of a new information collection.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before October 6, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028—NEW, NSDI CAP in all correspondence.

FOR FURTHER INFORMATION CONTACT: Brigitta Urban-Mathieux, Federal Geographic Data Committee Office of the Secretariat, U.S. Geological Survey, 12201 Sunrise Valley Drive, Mail Stop 590, Reston, VA 20192 (mail); 703-648-5175 (phone); or burbanma@usgs.gov (email). You may also find information about this ICR at www.reginfo.gov.

SUPPLEMENTARY INFORMATION:

I. Abstract

Respondents are submitting proposals to acquire funding for projects to help build the infrastructure necessary for the geospatial data community to effectively discover, access, share, manage, and use digital geographic data. The National Spatial Data Infrastructure (NSDI) consists of the technologies, policies, organizations, and people necessary to promote cost-effective production, and the ready availability and greater utilization of geospatial data among a variety of sectors, disciplines, and communities. Specific NSDI areas of emphasis include: Metadata documentation, clearinghouse establishment, geospatial data framework development, standards implementation, and geographic information system (GIS) organizational coordination.

We will issue a request for proposal (RFP) via Grant.gov. The incoming proposals will be reviewed and scored based on the responses to the questions in the RFP. Responses are voluntary. No questions of a “sensitive” nature are asked. We will protect information from respondents considered proprietary under the Freedom of Information Act (5 U.S.C. 552) and it's implementing regulations (43 CFR part 2), and under regulations at 30 CFR 250.197, “Data and information to be made available to the public or for limited inspection.” We intend to release the project abstracts and primary investigators for awarded/funded projects only.

II. Data

OMB Control Number: 1028—NEW.

Form Number: NA

Title: National Spatial Data Infrastructure Cooperative Agreements Program (NSDI CAP).

Type of Request: New information collection.

Affected Public: Private Sector; State, Local, and Tribal governments; Academia, and Non-profit organizations.

Respondent's Obligation: None. Participation is voluntary.

Frequency of Collection: This is an annual offer.

Estimated Total Number of Annual Responses: 60

Estimated Time per Response: 25 hours

Estimated Annual Burden Hours: 1,500 hours.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology. Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Ivan DeLoatch,
Executive Director, Federal Geographic Data Committee, Core Science Systems.

[FR Doc. 2015-19384 Filed 8-6-15; 8:45 am]

BILLING CODE 4311-AM-P